DEPARTMENT OF COMMERCE

National Oceanic and Atmospheric Administration

Distribution of Digital Navigation and Associated Data; NOAA Electronic Navigational Charts® Released as Nautical Charts

AGENCY: National Ocean Service, National Oceanic and Atmospheric Administration, Department of Commerce.

ACTION: Notice.

SUMMARY: NOAA's National Ocean Service (NOS) is announcing the distribution of certain digital navigation and related data to the public on the Internet. In July 2001, NOS began posting its Electronic Navigational Charts (NOAA ENCs®) on the Internet. Now NOS is or will be making digital versions of the U.S. Coast Pilot®, Tide and Current Tables, Shoreline Data and certain other products available on the Internet. These products have primary application in navigation and in a broad range of Geographic Information System activities. The electronic distribution of navigational and related data will supplement other methods of distribution; paper versions of these products are expected to continue to be available from existing sources.

A primary purpose of providing this information and data on the Internet is to improve marine safety and reduce the risk of accidents, including injury to people, property, the environment and local economies. Providing mariners with more timely and accurate information via the Internet is expected to improve their decision-making capability in an often rapidly changing marine environment.

In addition, NOS is announcing its intention to remove the “provisional” label for NOAA ENCs® distributed on the Internet. Once that label is removed, a NOAA ENC® will constitute a “nautical chart” for the purposes of the 1974 International Convention for the Safety of Life at Sea, as previously announced in Federal Register, Volume 67, Number 111, pages 39695-39696, published June 10, 2002.

DATES: Comments on this action should be submitted on or before 5 p.m., EST, June 20, 2003.

ADDRESSES: Comments in writing should be submitted to Director, Office of Coast Survey, National Ocean Service, NOAA (N/CS), 1315 East-West Highway, Silver Spring, MD 20910. Written comments may be FAXed to (301) 713-4019. Comments by e-mail should be submitted to ECDIS@noaa.gov.

FOR FURTHER INFORMATION CONTACT: Mike Brown, Electronic Chart Products Manager, Marine Chart Division, Office of Coast Survey, NOS/NOAA, (301) 713-2724, Extension 153, FAX, (301) 713-4516.

SUPPLEMENTARY INFORMATION: Under 33 U.S.C. 883a et seq. NOS is responsible for providing nautical charts and related information for safe navigation and other purposes. In fulfilling this responsibility, NOS collects and compiles hydrographic, tidal and current, geodetic and a variety of other data and information. In the past, NOS made this information available to the public primarily by publishing and distributing various paper charts and other printed materials. It is now technologically feasible to disseminate much of this information in digital format on the Internet and NOS intends to do so when it is reasonable and feasible to take such action. NOAA consulted with the U.S. Coast Guard concerning its proposal to make digital navigation data, including NOAA ENCs®, available on the Internet. The Coast Guard concurred that such action would promote marine safety.

NOS digital products that are being distributed are expected to be distributed on the Internet include but are not limited to NOAA ENCs®, the U.S. Coast Pilots®, Water Level, Observations, Water Level Time Series Plots, Predicted Tides and Tidal Currents, Tidal Predictions Program, Published Bench Mark Sheets with Tidal Datums, Harmonic Constituents, Coastal Survey Maps/Shoreline Data, CORS—Global Positioning System Continuously Operating Reference Station data, Geodetic Control Data Sheets, Tidal and Orthometric Elevations, Gravity Data, Online User Positioning Service, Geoid data, and various types of positioning and conversion software such as HTDP, NADCON, LVL DH, and Surface Gravity Prediction.

NOS data that might be affected by the above announcement is posted at the following NOAA Web sites: http://chartmaker.ncd.noaa,gov. http://co-ops.nos.noaa.gov; and http://www.ngs.noaa.gov NOS may also release other present or future nautical products or data on the Internet; NOS Web sites.

One of the primary reasons for making digital navigational and related data available to the public on the Internet is to promote safe navigation. In the past, mariners would have to wait until new editions of nautical charts, the U.S. Coast Pilot® and other publications were released before they would have access to updated information. Today's digital technologies and widespread access to the Internet provide the means to make this information available to the mariner much sooner, sometimes in near real-time. In addition, often much more accurate or complete information can be distributed in digital format that could be provided in a printed document.

Releasing NOS digital navigation data and information available on the Internet is expected to encourage commercial mariners, recreational boaters and others to use the most accurate and complete digital information available. Digital navigation data that are easily accessible is in demand; if NOS data were not available or accessible, people would be expected to utilize less reliable, less accurate or less complete data with the attendant increased risks.

Another safety benefit from the release of these data is that it may encourage the development of new and better navigation products that utilize the best data available. For example, several navigation software programs have been developed to utilize products such as NOAA ENCs®.

A secondary benefit of releasing these data on the Internet is that it is expected to promote the open and efficient exchange of public, scientific and technical information. The public generally, not just mariners, has an interest in these data. Internet access to NOS navigation and other data will maximize dissemination of this information to ocean engineers, marine scientists, emergency response personnel, a mangers and policy makers, including those in state and local governments, academia and other institutions as well as the private sector. Such action may promote scientific advances, sound marine and coastal management, and commercial development of new and better navigation or other products.

Such action is designed to be consistent with section 2 of the Paperwork Reduction Act, 44 U.S.C. 3506(d) and Office of Management and Budget Circular A-130 regarding information management and dissemination and is expected to maximize the usefulness of government data. Currently NOAA collects, compiles and maintains these data and little or no expense will be incurred in making these data available to the public on the Internet.

Generally, NOAA does not intend to limit access to, or restrict use of the data it makes available on the Internet. Of course, sensitive data will be reviewed and if there are homeland security issues, proprietary concerns, privacy implications or similar issues, such data may not be placed on the Internet. In addition, in some cases where the data or use of the data are not completely reliable, where procedures for updating the data are not fully tested and operational, where the public may lack familiarity with the use of those data and associated products, or for other reasons, NOS may release the data on a provisional basis with a statement that the data are not to be used for navigational purposes. This was the case with the original release of NOAA ENCs® in 2001.

From all indications, mariners and other users are now familiar with NOAA ENCs®. The response to NOAA ENCs on the Internet has been overwhelmingly positive, with more than 480,000 individual files downloaded. NOAA ENCs were designed to comply with International Hydrographic Organization's S-57 ENC Product Specification and have been greatly successful with a notable absence of significant errors. Further, the NOAA ENC® files are now being updated for Notices to Mariners on a monthly basis and then posted to the NOAA ENC® Web page, available for downloading. Consequently, NOS will remove the “provisional” label for NOAA ENCs® distributed on the Internet in the near future. Once that label is removed, a NOAA ENC® will constitute a “nautical chart” for the purposes of the 1974 International Convention for the Safety of Life at Sea.

In the future NOAA intends to monitor the release and use of its data and may remove, or in some cases, add provisional use labels or other warnings or restrictions through an announcement on the Web site associated with the data.

NOS does not seek to limit access or restrict use of the data it provides on the Internet for most purpose, but it is concerned about the use of these data in situations that may compromise marine safety. Consequently, NOS plans to work with mariners, product developers and others to establish specific procedures for users who wish to incorporate NOS data into certain navigation products. Thus, in order for a value-added navigational product to be certified, the developer may be required to establish a process to ensure that NOS data are incorporated into the product without compromise to the data quality or data lineage.

NOS intends to issue standards governing the certification process for derived navigational products. Among the standards under consideration are: (1) The operation of a quality assurance system that is in essential compliance with a recognized quality standard, such as ISO 9000 series or equivalent, and (2) the certification by a U.S. Coast Guard-approved quality standards organization that results in products being consistently manufactured to the same specification.

NOS is publishing this notice consistent with section 8.a(6)(j) of the Office of Management and Budget Circular A-130.

Dated: May 14, 2003.
Jamison S. Hawkins,
Acting Assistant Administrator, Ocean Services and Coastal Zone Management, National Oceanic and Atmospheric Administration.

[FR Doc. 03-12703 Filed 5-20-03; 8:45 am]

BILLING CODE 3510-JE-M